DEPARTMENT OF LABOR

Employment and Training Administration

[TA-W-38,276]

Coach; A Subsidiary of Sara Lee Corporation, Medley, FL; Amended Certification Regarding Eligibility To Apply for Worker Adjustment Assistance

In accordance with section 223 of the Trade Act of 1974 (19 U.S.C. 2273) the U.S. Department Labor issued a Certification of Eligibility to Apply for Worker Adjustment Assistance on December 4, 2000 applicable to workers of Coach, Medley, Florida. The notice was published in the Federal Register on December 21, 2000 (65 FR 80458).

At the request of the State agency, the Department reviewed the certification for workers of the subject firm. Information provided by the State shows that Coach is a subsidiary of Sara Lee Corporation. Some workers at the subject firms' Medley, Florida facility have had their wages reported under a separate unemployment insurance (UI) tax account for Sara Lee Corporation. The workers were engaged in the production of leather handbags and accessories.

Based on these findings, the Department is amending the certification to properly reflect this matter.

The intent of the Department's certification is to include all workers of Coach who were adversely affected by increased imports.

The amended notice applicable to TA-W-38,276 is hereby issued as follows:

“All workers of Coach, a subsidiary of Sara Lee Corporation, Medley, Florida, who became totally or partially separated from employment on or after October 24, 1999 through December 4, 2000 are eligible to apply for adjustment assistance under Section 223 of the Trade Act of 1974.”

Signed at Washington D.C. this 7th day of February, 2001.
Linda G. Poole,
Certifying Officer, Division of Trade Adjustment Assistance.

[FR Doc. 01-4121 Filed 2-16-01; 8:45 am]

BILLING CODE 4510-30-M